Title 3—

The President

Proclamation 7976 of January 27, 2006

National African American History Month, 2006

By the President of the United States of America

A Proclamation

As we celebrate National African American History Month, we recognize the many contributions of African Americans to our country and reinforce our commitment to be a Nation of opportunity and hope for every citizen.

Throughout our history, African Americans have courageously worn our Nation's uniform while defending peace and liberty around the globe. Patriots like Thurgood Marshall and Rosa Parks broke down racial barriers and inspired our Nation to make good on the promise of equal justice under law. Educators like Mary McLeod Bethune and Dr. Frederick Patterson transformed the academic world, with the goal of ensuring that every child has access to a good education. Athletes such as Jesse Owens and Wilma Rudolph and entertainers such as Ossie Davis and Ray Charles have brought pride and joy to generations of Americans. Today, the accomplishments of African Americans in every aspect of our society continue to encourage people to reach as far as their vision and dreams may take them.

African-American organizations have played a vital role in achieving justice and equal rights, and they have helped make communities across our country stronger and better. This year's theme of African American History Month, “Celebrating Community: A Tribute to Black Fraternal, Social, and Civic Institutions,” recognizes the African-American groups that have worked to confront injustices and expand opportunities. These organizations believe in the potential and worth of every person, and they have worked to help all Americans receive a quality education, to feed the hungry and house the homeless, to encourage youth to make healthy choices, and to reach out to others in need. By answering the call to love a neighbor as we would like to be loved ourselves, these groups have set a positive example, and we continue to be inspired by their compassion and service to others.

Working together, Federal, State, and local government, community organizations, and individual citizens will continue to foster hope and build a better tomorrow for all our children and grandchildren.

NOW, THEREFORE, I, GEORGE W. BUSH, President of the United States of America, by virtue of the authority vested in me by the Constitution and laws of the United States, do hereby proclaim February 2006 as National African American History Month. I call upon public officials, educators, and all the people of the United States to observe this month with appropriate programs and activities that honor the significant contributions African Americans have made to our Nation.

IN WITNESS WHEREOF, I have hereunto set my hand this twenty-seventh day of January, in the year of our Lord two thousand six, and of the Independence of the United States of America the two hundred and thirtieth.

B

[FR Doc. 06-991

Filed 1-31-06; 8:45 am]

Billing code 3195-01-P